DEPARTMENT OF COMMERCE

Foreign-Trade Zones Board

[B-071-2017]

Foreign-Trade Zone (FTZ) 52—Jamaica, New York; Notification of Proposed Production Activity; Advanced Optowave Corporation; (Diode Pumped Solid State Laser Systems/Manufacturing); Ronkonkoma, New York

Suffolk County, grantee of FTZ 52, submitted a notification of proposed production activity to the FTZ Board on behalf of Advanced Optowave Corporation (Advanced Optowave), located in Ronkonkoma, New York. The notification conforming to the requirements of the regulations of the FTZ Board (15 CFR 400.22) was received on November 8, 2017.

The Advanced Optowave facility is located within FTZ 52, Site 5. The facility will be used for the production of diode pumped solid state laser systems (including the controller and laser). Pursuant to 15 CFR 400.14(b), FTZ activity would be limited to the specific foreign-status materials and components and specific finished products described in the submitted notification (as described below) and subsequently authorized by the FTZ Board.

Production under FTZ procedures could exempt Advanced Optowave from customs duty payments on the foreign-status components used in export production. On its domestic sales, for the foreign-status materials/components noted below, Advanced Optowave would be able to choose the duty rates during customs entry procedures that apply to diode pumped solid state laser systems (including the controller) (duty-free). Advanced Optowave would be able to avoid duty on foreign-status components which become scrap/waste. Customs duties also could possibly be deferred or reduced on foreign-status production equipment.

The components and materials sourced from abroad include: Optics (laser crystal—neodymium-doped yttrium orthovanadate (ND:YV04); lithium triborate crystal; laser mirror; window optics; optical lens; optical fiber); laser diode; radio frequency driver; thermistor; thermal electric cooler; printed circuit board (populated); computer power supply unit; aluminum mechanical parts (second harmonic generation (SHG) top cover; SHG bottom cover; third harmonic generation (THG) top cover; THG bottom cover; SHG base; THG base; harmonic base; clamp; mirror mount; lens barrel mount; lens barrel mount T-base; lens barrel; lens barrel spacer; laser crystal cover; laser base; desiccant guard; shutter mount; aperture base small; aperture disc; aperture base wide; wire adapter; windows mount; Q switch mount; heat sink; housing body; housing main cover; housing end cover; housing box umbilical adapter; housing leg double slit; housing leg single slit; housing diode cooling plate; housing duel fan cooling plate) (duty rate ranges from duty-free to 5.5%).

Public comment is invited from interested parties. Submissions shall be addressed to the Board's Executive Secretary at the address below. The closing period for their receipt is January 2, 2018.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita Chen at juanita.chen@trade.gov or (202) 482-1378.

Dated: November 17, 2017.
Andrew McGilvray,
Executive Secretary.

[FR Doc. 2017-25281 Filed 11-21-17; 8:45 am]

BILLING CODE 3510-DS-P